FEDERAL COMMUNICATIONS COMMISSION

Federal Advisory Committee Act; Advisory Committee on Diversity for Communications in the Digital Age

AGENCY: Federal Communications Commission.

ACTION: Notice of public meeting.

SUMMARY: In accordance with the Federal Advisory Committee Act, this notice advises interested persons that the Federal Communications Commission's (FCC) Advisory Committee on Diversity for Communications in the Digital Age (“Diversity Committee”) will hold a meeting on May 7th, 2009 at 10:00 a.m. in the Commission Meeting Room of the Federal Communications Commission, Room TW-C305, 445 12th Street, SW., Washington, DC 20554. This will be the first meeting of the Diversity Committee under its renewed charter and new membership.

DATES: May 7, 2009, 10 a.m. EST.

ADDRESSES: Federal Communications Commission, Room TW-C305 (Commission Meeting Room), 445 12th Street, SW., Washington, DC 20554.

FOR FURTHER INFORMATION CONTACT: Jamila-Bess Johnson, (202) 418-2608 or e-mail: Jamila-Bess.Johnson@fcc.gov.

SUPPLEMENTARY INFORMATION: This is an organizational meeting for the membership of the Diversity Committee under the renewed charter.

Members of the general public may attend the meeting. The FCC will attempt to accommodate as many people as possible. However, admittance will be limited to seating availability. The public may submit written comments before the meeting to: Barbara Kreisman, the FCC's Designated Federal Officer for the Diversity Committee by e-mail: Barbara.Kreisman@fcc.gov or U.S. Postal Service Mail (Barbara Kreisman, Federal Communications Commission, Room 2-A665); or Jamila-Bess Johnson, Alternate Designated Federal Officer for the Diversity Committee by e-mail Jamila-Bess.Johnson@fcc.gov or U.S. Postal Service Mail (Jamila-Bess Johnson, Federal Communications Commission, Room 2A-234); or Carolyn Williams, Alternate Designated Federal Officer for the Diversity Committee by e-mail: Carolyn.Williams@fcc.gov or U.S. Postal Service Mail (Carolyn Williams, Federal Communications Commission, Room 4-A760). The street address for FCC headquarters is 445 12th Street, SW., Washington, DC 20554.

Open captioning will be provided for this event. Other reasonable accommodations for people with disabilities are available upon request. Requests for such accommodations should be submitted via e-mail to fcc504@fcc.gov or by calling the Consumer & Governmental Affairs Bureau at (202) 418-0530 (voice), (202) 418-0432 (tty). Such requests should include a detailed description of the accommodation needed. In addition, please include a way we can contact you if we need more information. Please allow at least five days advance notice; last minute requests will be accepted, but may be impossible to fill.

Additional information regarding the Diversity Committee can be found at http://www.fcc.gov/DiversityFAC.

Federal Communications Commission,
Marlene H. Dortch,
Secretary.

[FR Doc. E9-9362 Filed 4-22-09; 8:45 am]

BILLING CODE 6712-01-P